DEPARTMENT OF THE INTERIOR

Fish and Wildlife Service

Endangered Species Recovery Permit Applications

AGENCY: Fish and Wildlife Service, Interior.

ACTION: Notice of receipt of permit applications.

SUMMARY: The following applicants have applied for survival enhancement permits to conduct certain activities with endangered species pursuant to section 10(a)(1)(A) of the Endangered Species Act (16 U.S.C. 1531 et seq.). The U.S. Fish and Wildlife Service (“we”) solicits review and comment from the public, and from local, State, and Federal agencies on the following permit requests.

DATES: Comments on these permit applications must be received on or before September 8, 2005.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents to the address above. Please refer to the respective permit number for each application when requesting copies of documents.

SUPPLEMENTARY INFORMATION:

Permit No. TE-018078

Applicant: Hawaii Volcanoes National Park, Hawaii.

The permittee requests an amendment to remove/reduce to possession (collect and store seed, propagate, and reintroduce) Sesbania tomentosa (‘ohai), Portulaca sclerocarpa (‘ihi makole), Cyrtandra giffardii (no common name), Cyrtandra tintinnabula (no common name), Sicyos alba (‘anunu), Hibiscadelphus giffardianus (hau kuahiwi), Phyllostegia parviflora var. glabriuscula (no common name), and Melicope zahibruckneri (alani) in conjunction with activities to stabilize these species on the island of Hawaii, Hawaii, for the purpose of enhancing their survival.

Permit No. TE-826600

Applicant: Michael G. Hadfield, Honolulu, Hawaii.

The permittee requests an amendment to take (apply radio transmitters) the Oahu tree snails (Achatinella spp.) in conjunction with monitoring activity and migration patterns on the island of Oahu, Hawaii, for the purpose of enhancing their survival.

We solicit public review and comment on each of these recovery permit applications.

Dated: July 22, 2005.
Don Weathers,
Acting Regional Director, Region 1, U.S. Fish and Wildlife Service.

[FR Doc. 05-15700 Filed 8-8-05; 8:45 am]

BILLING CODE 4310-55-P